ENVIRONMENTAL PROTECTION AGENCY

40 CFR Part 52

[EPA-R01-OAR-2009-0451; FRL-9908-53-Region 1]

Approval and Promulgation of Air Quality Implementation Plans; New Hampshire; Reasonably Available Control Technology for the 1997 8-Hour Ozone Standard

AGENCY: Environmental Protection Agency (EPA).

ACTION: Correcting amendments.

SUMMARY: The Environmental Protection Agency (EPA) published a final rule for New Hampshire regarding reasonably available control technology for the 1997 8-hour ozone standard in the Federal Register on November 5, 2012. An incorrect date was identified and is corrected in this action.

DATES: This rule is effective on May 12, 2014.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: In a final rule dated November 5, 2012 (77 FR 66388), the table in paragraph (d) of § 52.1520 incorrectly listed, within the third column of this table, the state effective date for the Waste Management order as 8/26/2002. As noted in the first column of page 66394 of this notice, an updated order was submitted for this facility, and it is the updated order that we approved in the November 5, 2012 action. The updated order, submitted on August 2, 2012, has a state effective date of April 27, 2012. This action corrects that error by inserting the correct date of April 27, 2012, into the table in paragraph (d) of § 52.1520, as follows:

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 2, 2014.
H. Curtis Spalding,
Regional Administrator, EPA New England.

Part 52 of chapter I, title 40 of the Code of Federal Regulations, is amended as follows:

PART 52—[AMENDED]

1. The authority citation for part 52 continues to read as follows:

Authority: 42 U.S.C. 7401 et seq.

2. Section 52.1520 is amended by revising the entry for “Waste Management” in the table in paragraph (d) to read as follows:

§ 52.1520 Identification of plan.

* * * * *

(d) EPA-approved State Source specific requirements.

EPA-Approved New Hampshire Source Specific Requirements
Name of source | Permit No. | State effective date | EPA approval date ² | Explanations
* * * * * * *
Waste Management | ARD-01-001 | 4/27/2012 | 11/5/2012, 77 FR 66388 | Single source NOX RACT order for facility in Rochester, NH.
* * * * * * *
² In order to determine the EPA effective date for a specific provision listed in this table, consult the Federal Register notice cited in this column for the particular provision.

* * * * *

[FR Doc. 2014-07729 Filed 4-10-14; 8:45 am]

BILLING CODE 6560-50-P